DEPARTMENT OF DEFENSE

Department of the Navy

Notice of Intent (NOI) To Prepare an Environmental Assessment for the Use of a More Efficient Shipping Container System for Spent Nuclear Fuel From Naval Aircraft Carriers

AGENCY: Department of the Navy, DoD.

ACTION: Notice.

SUMMARY: Pursuant to the National Environmental Policy Act (NEPA) of 1969, as amended (42 U.S.C. 4321 et seq.), the Council on Environmental Quality Regulations for Implementing the Procedural Provisions of NEPA (40 CFR parts 1500-1508), and the Chief of Naval Operations Environmental and Natural Resources Program Manual (OPNAV Instruction 5090.1B), the Department of the Navy, Naval Nuclear Propulsion Program, announces its intent to prepare an Environmental Assessment (EA) on the potential environmental impacts associated with using a more efficient shipping container system for spent nuclear fuel to support refueling and defueling U.S. Navy nuclear-powered aircraft carriers at Newport News Shipbuilding and Dry Dock Company (NNS) in Virginia, and the associated rail shipment of this spent nuclear fuel to the Naval Reactors Facility (NRF) in Idaho for temporary storage.

DATES: Interested parties are invited to provide comments on environmental issues and concerns relative to this NOI and the scope of the EA, on or before February 21, 2006, to ensure full consideration during the completion of the EA.

ADDRESSES: All comments should include name, organization, and mailing address. Written comments should be addressed to Mr. Alan Denko (08U-Naval Reactors), Naval Sea Systems Command, 1240 Isaac Hull Avenue, SE Stop 8036, Washington Navy Yard, DC 20376-8036. Comments provided by E-Mail should use the following address: snfshippingcontainer@bettis.gov. Comments provided via phone should use this number: 1-866-369-4802.

SUPPLEMENTARY INFORMATION: Consistent with the Record of Decision for the April 1995 Department of Energy Programmatic Environmental Impact Statement (EIS) for Spent Nuclear Fuel Management, Naval spent nuclear fuel is shipped by rail from refueling shipyards to NRF in shipping containers meeting Nuclear Regulatory Commission (NRC) and Department of Transportation (DOT) requirements. These requirements provide for public safety and protect the environment. A new shipping container system is being proposed to provide improved support for the refueling schedules and operational needs of the U.S. Navy fleet, while continuing to provide for public safety and environmental protection. The new shipping containers would be longer than existing containers and could be used for any type of Naval spent nuclear fuel; however, their primary function would be to transport aircraft carrier spent nuclear fuel assemblies without disassembly of the spent nuclear fuel from its non-fuel structural components. Elimination of this disassembly operation at the shipyard would result in more efficient defueling/refueling operations, which are necessary to meet the current refueling schedules for the fleet in support of national defense. The aircraft carrier spent nuclear fuel assemblies would be loaded directly into the new containers and shipped to NRF in Idaho for temporary storage and processing, which includes examination, removal of non-fuel structural components, and placement into canisters that are ready for shipment to the geologic repository. This method of direct loading of Naval spent nuclear fuel into shipping containers and removing non-fuel structural components at NRF is the same processing approach used for submarines.

The Naval Nuclear Propulsion Program's conservative design practices and stringent operating procedures have resulted in a demonstrated safety record for Naval nuclear propulsion plants with respect to operations, transportation, and handling of spent nuclear fuel. There has never been an accident resulting in personnel injury or release of radioactivity to the environment in over 1.5 million miles traveled by the Naval spent fuel shipping containers. The new longer shipping container would be designed to the same robust criteria and Federal regulations as current Naval spent nuclear fuel shipping containers. These regulations require that the shipping container meet specific criteria for protection of the public and the environment under normal transport as well as accident conditions. The new container will meet the same high standards as existing shipping containers with respect to minimizing radiation exposure to the public and workers.

The increased length of the containers would require new railcars capable of carrying containers in a horizontal position, versus the vertical position used for current container designs. The new railcars and containers would meet NRC and DOT regulations and provide equivalent safety to existing design railcars and containers used for transporting Naval spent nuclear fuel.

Construction of a new facility at NNS to support loading the longer shipping containers would be needed. Equipment used to remove and transfer the spent nuclear fuel assemblies from the ship to the new shipping container would be the same as that currently used for aircraft carrier defueling/refueling operations.

No new facilities would be needed at NRF, but minor facility modifications would be required to support unloading of the new containers and to allow for scheduled return of the containers to NNS. The return of the emptied shipping containers to NNS is needed to support defueling/refueling schedules and to minimize the number of containers that must be procured and maintained. To support container turnaround, the Navy is evaluating the option of increasing spent fuel receiving capability at NRF to include temporary dry storage of spent nuclear fuel prior to processing. The fuel would be stored in concrete shielded overpacks in the temporary dry storage building. Operations for temporary dry storage of spent nuclear fuel prior to processing would be similar to current NRF operations for temporary dry storage after processing.

The EA will evaluate the environmental impacts associated with the new container, construction of a new shipping container loading facility at NNS, loading the shipping containers with Naval spent nuclear fuel at NNS, and transport from the shipyard to NRF. The EA will evaluate the modification of facilities at NRF, unloading the spent nuclear fuel assemblies, temporary dry storage, disassembly of the spent nuclear fuel from its non-fuel structural components, and disposal of the non-fuel structural components. The environmental impacts associated with these operations are expected to be similar to those associated with the use of existing shipping container systems. Use of the proposed new container system will not impact continued compliance with the 1995 Settlement Agreement between the U.S. Navy and the State of Idaho concerning the management of Naval spent nuclear fuel.

The EA will also address the viability of alternative actions to the proposed action to use the new longer shipping container system. These alternatives include (1) Changing the aircraft carrier defueling/refueling schedules, (2) increasing the facilities at the refueling shipyard, (3) procurement of additional shipping containers of the existing design, (4) performing some activities at other facilities, and (5) the no action alternative, continuing to use the existing shipping containers.

Dated: January 6, 2006.
Eric McDonald,
Lieutenant Commander, Judge Advocate General's Corps, U.S. Navy, Federal Register Liaison Officer.

[FR Doc. 06-289 Filed 1-19-06; 8:45 am]

BILLING CODE 3810-FF-P